DEPARTMENT OF TRANSPORTATION

Federal Motor Carrier Safety Administration

[Docket No. FMCSA-2012-0118]

Agency Information Collection Activities; Extension of a Currently-Approved Information Collection Request: Motor Carrier Identification Report

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval. The FMCSA requests approval to extend an ICR entitled, “Motor Carrier Identification Report,” which is used to identify FMCSA regulated entities, prioritize the agency's activities, aid in assessing the safety outcomes of those activities, and for statistical purposes.

On February 6, 2012, FMCSA published a Federal Register notice allowing for a 60-day comment period on the ICR. No comments were received.

DATES: Please send your comments by June 11, 2012. OMB must receive your comments by this date in order to act quickly on the ICR.

ADDRESSES: All comments should reference Federal Docket Management System (FDMS) Docket Number FMCSA-2012-0118. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW., Washington, DC 20503.

FOR FURTHER INFORMATION CONTACT: Ms. Vivian Oliver, Transportation Specialist, Office of Information Technology, Operations Division, Department of Transportation, Federal Motor Carrier Safety Administration, West Building 6th Floor, 1200 New Jersey Avenue SE., Washington, DC 20590. Telephone: 202-366-2974; email Address: vivian.oliver@dot.gov. Office hours are from 9 a.m. to 5 p.m., Monday through Friday, except Federal holidays.

SUPPLEMENTARY INFORMATION:

Title: Motor Carrier Identification Report.

OMB Control Number: 2126-0013.

Type of Request: Extension of a currently-approved information collection.

Respondents: Motor carriers, commercial motor vehicle drivers, and intermodal equipment providers.

Estimated Number of Respondents: 447,109.

Estimated Time per Response: To complete Form MCS-150, motor carriers will need 20 minutes the first time they file this report and 7.5 minutes for the biennial update. To complete Form MCS-150B (HM Safety Permit Application), interstate HM carriers that have already completed the Form MCS-150 will need 6 minutes to complete this report and intrastate HM carriers that have never completed a Form MCS-150 will need about 16 minutes to complete it and 5 minutes for the biennial update. Form MCS-150C—Intermodal Equipment Providers will need 20 minutes the first time they file this report and 7.5 minutes for the biennial update.

Expiration Date: July 31, 2012.

Frequency of Response: Biennially.

Estimated Total Annual Burden: 93,792 hours [93,534 hours for Form MCS-150 + 249 hours for Form MCS-150B + 9 hours for Form MCS-150C = 93,792 hours].

Background: Title 49, United States Code Section 504(b)(2) provides the Secretary of Transportation (Secretary) with authority to require carriers, lessors, associations, or classes of these entities to file annual, periodic, and special reports containing answers to questions asked by the Secretary. The Secretary may also prescribe the form of records required to be prepared or compiled and the time period during which records must be preserved (See § 504(b)(1) and (d)). The FMCSA will use this data to administer its safety programs by establishing a database of entities that are subject to its regulations. This database necessitates that these entities notify the FMCSA of their existence. For example, under 49 CFR 390.19(a), FMCSA requires all motor carriers beginning operations to file a Form MCS-150 entitled, “Motor Carrier Identification Report.” This report is filed by all motor carriers conducting operations in interstate or international commerce before beginning operations. It asks the respondent to provide the name of the business entity that owns and controls the motor carrier operation, address and telephone of principal place of business, assigned identification number(s), type of operation, types of cargo usually transported, number of vehicles owned, term leased and trip leased, driver information, and certification statement signed by an individual authorized to sign documents on behalf of the business entity.

The Department of Transportation (DOT) and Related Agencies Appropriations Act for fiscal year 2002 (DOT Appropriations Act) (Pub. L. 107-87, 115 Stat. 833) directed the agency to issue an interim final rule (IFR) to ensure that new entrant motor carriers are knowledgeable about the Federal Motor Carrier Safety Regulations (FMCSRs) and standards.

On June 30, 2004, the agency issued a final rule entitled, “Federal Motor Carrier Safety Regulations: Hazardous Materials Safety Permits,” (69 FR 39350) which required all HM carriers (both interstate and intrastate) to complete and file the Form MCS-150B entitled, “Combined Motor Carrier Identification Report and HM Permit Application,” to obtain a safety permit to transport hazardous materials. The safety program under 49 CFR 390.19(a) also requires all HM permitted carriers to complete Form MCS-150B in place of the current Form MCS-150 to “renew” both their permit and their DOT numbers according to the DOT number renewal schedule.

On December 17, 2008, FMCSA issued a final rule entitled, “Requirements for Intermodal Equipment Providers and for Motor Carriers and Drivers Operating Intermodal Equipment,” (73 FR 76794) which required all intermodal equipment providers to complete Form MCS-150C entitled, “Intermodal Equipment Provider Identification Report” in order to register with the Agency and receive a USDOT number. FMCSA now regulates intermodal equipment providers and requires them to complete Form MCS-150C, instead of the current Form MCS-150. In addition, intermodal equipment providers must complete Form MCS-150C to update their USDOT number record according to the USDOT number update schedule in 49 CFR 390.19.

Public Comments Invited: You are asked to comment on any aspect of this information collection, including: (1) Whether the proposed collection is necessary for the FMCSA to perform its functions; (2) the accuracy of the estimated burden; (3) ways for FMCSA to enhance the quality, usefulness, and clarity of the collected information; and (4) ways that the burden could be minimized without reducing the quality of the collected information.

Issued on: April 25, 2012.
Kelly Leone,
Associate Administrator for Research and Information Technology.

[FR Doc. 2012-11456 Filed 5-10-12; 8:45 am]

BILLING CODE 4910-EX-P